DEPARTMENT OF HOMELAND SECURITY

Coast Guard

33 CFR Part 110

[Docket No. USCG-2015-1118]

RIN 1625-AA01

Anchorage Grounds; Lower Chesapeake Bay, Cape Charles, VA

AGENCY: Coast Guard, DHS.

ACTION: Notice of public meeting and reopening of comment period.

SUMMARY: The Coast Guard announces an August 17, 2016 public meeting to receive comments on an advance notice of proposed rulemaking (ANPRM) for anchorage grounds that was published in the Federal Register on April 19, 2016. As stated in the ANPRM, the Coast Guard is considering amending the regulations for Hampton Roads, VA, and adjacent waters anchorages by establishing a new anchorage, near Cape Charles, VA, on the Lower Chesapeake Bay. We are reopening the comment period on the ANPRM so that comments may be received both at the public meeting and up to 2 weeks after the public meeting.

DATES: A public meeting will be held on Wednesday, August 17, 2016, from 6 p.m. to 7:30 p.m., to provide an opportunity for oral comments. Written comments and related material may also be submitted to Coast Guard personnel specified at that meeting. All comments and related material submitted after the meeting must be received by the Coast Guard on or before August 31, 2016.

ADDRESSES: The public meeting will be held at Cape Charles Civic Center, 500 Tazewell Avenue, Cape Charles, VA 23310.

You may submit written comments identified by docket number USCG-2015-1118 using the Federal eRulemaking Portal at http://www.regulations.gov. Comments and related material must be received by the Coast Guard on or before August 31, 2016. If you submit a comment, please include the docket number for this rulemaking, indicate the specific section of this document to which each comment applies, and provide a reason for each suggestion or recommendation.

If your material cannot be submitted using http://www.regulations.gov, contact the person in the FOR FURTHER INFORMATION CONTACT section of this document for alternate instructions. We accept anonymous comments. All comments received will be posted without change to http://www.regulations.gov and will include any personal information you have provided. For more about privacy and the docket, you may review a Privacy Act notice regarding the Federal Docket Management System in the March 24, 2005, issue of the Federal Register (70 FR 15086).

FOR FURTHER INFORMATION CONTACT: If you have questions concerning the meeting or the advance proposed rule, please call or email LCDR Barbara Wilk, Sector Hampton Roads Waterways Management Officer, Coast Guard; telephone 757-668-5581, email Barbara.wilk@uscg.mil.

SUPPLEMENTARY INFORMATION:

Background and Purpose

We published an advance notice of proposed rulemaking (ANPRM) in the Federal Register on April 19, 2016 (81 FR 22939), entitled “Anchorage Grounds; Lower Chesapeake Bay, Cape Charles, VA.” In it we stated our intention to hold public meetings, and to publish a notice announcing the location and date (81 FR 22940). This document is the notice of that meeting.

In the ANPRM, we stated that the Coast Guard is considering amending the regulations for Hampton Roads, VA and adjacent waters anchorages by establishing a new anchorage, near Cape Charles, VA on the Lower Chesapeake Bay.

You may view the ANPRM in our online docket, in addition to supporting documents prepared by the Coast Guard (Illustration Contemplated Anchorage R), and comments submitted thus far by going to http://www.regulations.gov. Once there, insert “USCG-2015-1118” in the “Keyword” box and click “Search.”

We encourage you to participate in this rulemaking by submitting comments either orally at the meeting or in writing. If you bring written comments to the meeting, you may submit them to Coast Guard personnel specified at the meeting to receive written comments. These comments will be submitted to our online public docket. All comments received will be posted without change to http://www.regulations.gov and will include any personal information you have provided.

Comments submitted after the meeting must reach the Coast Guard on or before August 31, 2016. We encourage you to submit comments through the Federal eRulemaking Portal at http://www.regulations.gov. If your material cannot be submitted using http://www.regulations.gov, contact the person in the FOR FURTHER INFORMATION CONTACT section of this document for alternate instructions.

Anyone can search the electronic form of comments received into any of our dockets by the name of the individual submitting the comment (or signing the comment, if submitted on behalf of an association, business, labor union, etc.). You may review a Privacy Act notice regarding our public dockets in the March 24, 2005, issue of the Federal Register (70 FR 15086).

Agenda of Public Meeting

The agenda includes the following:

(1) Introduction of speakers.

(2) Overview of meeting format.

(3) Background on proposed commercial anchorage.

(4) Comments from interested persons.

Comments may be delivered in written form at the public meeting and made part of the docket or delivered in oral presentations not to exceed 10 minutes.

Information on Service for Individuals With Disabilities

For information on facilities or services for individuals with disabilities or to request special assistance at the public meeting, contact LCDR Barbara Wilk at the telephone number or email address indicated under the FOR FURTHER INFORMATION CONTACT section of this notice.

Public Meeting

The Coast Guard will hold a public meeting regarding its “Anchorage Grounds; Lower Chesapeake Bay, Cape Charles, VA” advance notice of proposed rulemaking on Wednesday, August 17, 2016, from 6 p.m. to 7:30 p.m., at Cape Charles Civic Center, 500 Tazewell Avenue, Cape Charles, VA 23310. A written summary of the meeting and comments will be placed in the docket.

Dated: August 3, 2016.
R.J. Wester,
Captain, U.S. Coast Guard, Captain of the Port Hampton Roads.

[FR Doc. 2016-19510 Filed 8-15-16; 8:45 am]

BILLING CODE 9110-04-P